DEPARTMENT OF THE INTERIOR

National Park Service

[NPS-WASO-NAGPRA-17615; PPWOCRADN0-PCU00RP14.R50000]

Notice of Inventory Completion: U.S. Department of Defense, Army Corps of Engineers, Charleston District, Charleston, SC

AGENCY: National Park Service, Interior.

ACTION: Notice.

SUMMARY: The U.S. Department of Defense, Army Corps of Engineers, Charleston District, has completed an inventory of human remains and associated funerary objects in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the U.S. Army Corps of Engineers, Charleston District. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the U.S. Army Corps of Engineers, Charleston District at the address in this notice by April 15, 2015.

ADDRESSES: Mr. Alan Shirey, U.S. Army Corps of Engineers, Charleston District, ATTN: CESAC-PM-PL, 69A Hagood Ave., Charleston, SC 29403-5107, telephone (843) 329-8166, email alan.d.shirey@usace.army.mil.

SUPPLEMENTARY INFORMATION: Notice is hereby given in accordance with the Native American Graves Protection and Repatriation Act (NAGPRA), 25 U.S.C. 3003, of the completion of an inventory of human remains and associated funerary objects under the control of the U.S. Army Corps of Engineers, Charleston District. The human remains and funerary objects were removed from Berkeley County, SC.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the U.S. Army Corps of Engineers, Charleston District professional staff in consultation with representatives the Absentee-Shawnee Tribe of Indians of Oklahoma; Alabama-Quassarte Tribal Town; Catawba Indian Nation (aka Catawba Tribe of South Carolina); Cherokee Nation; Delaware Tribe of Indians; Eastern Band of Cherokee Indians; Eastern Shawnee Tribe of Oklahoma; Kialegee Tribal Town; Seminole Tribe of Florida (previously listed as the Seminole Tribe of Florida (Dania, Big Cypress, Brighton, Hollywood & Tampa Reservations)); Shawnee Tribe; The Chickasaw Nation; The Choctaw Nation of Oklahoma; The Muscogee (Creek) Nation; Thlopthlocco Tribal Town; Tuscarora Nation; and United Keetoowah Band of Cherokee Indians in Oklahoma.

History and Description of the Remains

Between 1979 and 1981, human remains representing, at minimum, 59 individuals were removed from the Swamp Site (38BK235), in Berkeley County, SC. The site was excavated by the South Carolina Institute of Archaeology and Anthropology (SCIAA) of Columbia, SC, prior to the construction of the Cooper River Rediversion Canal. Artifacts were stored at SCIAA and the osteological materials (human and animal remains) were sent to the University of Missouri, Columbia, for analysis. Following analysis, the osteological material was returned to SCIAA, which is the current location of the collection. No known individuals were identified. The 102,358 associated funerary objects are 3 beads, 267 ceramic sherds, 339 concretions, 96,899 faunal fragments, 60 fossils (shell and coral), 1,842 lithic flakes (orthoquartzite, chert, and quartz), 20 lithic tool fragments, 21 lots of faunal fragments, 95 lots of screened material, 25 organics (wood, seeds, and snail shell), 1 piece of groundstone, 2,431 pieces of miscellaneous stone/pebbles, 97 pieces of charcoal, and 258 pieces of ochre (red and yellow).

Determinations Made by the U.S. Army Corps of Engineers, Charleston District

Officials of the U.S. Army Corps of Engineers, Charleston District have determined that:

• Pursuant to 25 U.S.C. 3001(9), the human remains described in this notice are Native American based on the physical characteristics of the human remains, the method of interment, the objects associated with the interments, and the archaeological context of the site.

• Pursuant to 25 U.S.C. 3001(9), the human remains described in this notice represent the physical remains of 59 individuals of Native American ancestry.

• Pursuant to 25 U.S.C. 3001(3)(A), the 102,358 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• The 1760 Treaty of Pine Tree Hill indicates that the land from which the Native American human remains and associated funerary objects were removed is aboriginal land of the Catawba Indian Nation (aka Catawba Tribe of South Carolina).

• Pursuant to 43 CFR 10.11(c)(1), the disposition of the human remains and associated funerary objects may be to the Catawba Indian Nation (aka Catawba Tribe of South Carolina).

Additional Requestors and Disposition

Representatives of any Indian tribe or Native Hawaiian organization not identified in this notice that wish to request transfer of control of these human remains and associated funerary objects should submit a written request with information in support of the request to Mr. Alan Shirey, U.S. Army Corps of Engineers, Charleston District, ATTN: CESAC-PM-PL, 69A Hagood Ave., Charleston, SC 29403-5107, telephone (843) 329-8166, email alan.d.shirey@usace.army.mil, by April 15, 2015. After that date, if no additional requestors have come forward, transfer of control of the human remains and associated funerary objects to the Catawba Indian Nation (aka Catawba Tribe of South Carolina) may proceed.

The U.S. Army Corps of Engineers, Charleston District is responsible for notifying the Catawba Indian Nation (aka Catawba Tribe of South Carolina) that this notice has been published.

Dated: February 3, 2015.
Melanie O'Brien,
Acting Manager, National NAGPRA Program.

[FR Doc. 2015-05996 Filed 3-13-15; 8:45 am]

BILLING CODE 4312-50-P